DEPARTMENT OF COMMERCE

Foreign-Trade Zones Board

[Docket 28-2001]

Foreign-Trade Zone 110—Albuquerque, New Mexico Application for Expansion and Relocation

An application has been submitted to the Foreign-Trade Zones (FTZ) Board (the Board), by the City of Albuquerque, New Mexico, grantee of Foreign-Trade Zone 110, requesting authority to expand and relocate its general-purpose zone in Albuquerque, New Mexico, within the Albuquerque Customs port of entry. The application was submitted pursuant to the provisions of the Foreign-Trade Zones Act, as amended (19 U.S.C. 81a-81u), and the regulations of the Board (15 CFR part 400). It was formally filed on June 28, 2001.

FTZ 110 was approved on October 30, 1984 (Board Order 279, 49 FR 44516, 11/7/84), along with Subzone 110A at the SP Pharmaceuticals facilities (approved as Summa Medical Corporation). The general-purpose zone project currently consists of 2 acres with an existing 50,000 square foot warehouse at 1414—12th Street, NW., in Albuquerque.

The applicant is requesting authority to relocate its general-purpose zone (2 acres) from its current location at 1414—12th Street in Albuquerque to 62 acres adjacent to the 2,300-acre Albuquerque International Sunport airport complex, between University Boulevard and Spirit Drive in Albuquerque. The new location is designed to serve the region's international and related logistics and cargo activities. The site is owned by the City and will be operated by the City's Aviation Department. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is September 4, 2001. Rebuttal comments in response to material submitted during the foregoing period may be submitted during the subsequent 15-day period (to September 19, 2001).

A copy of the application and accompanying exhibits will be available for public inspection at each of the following locations:

Albuquerque International Sunport Administrative Offices, Third Level, 2200 Sunport Boulevard SE, Albuquerque, NM 87106

Office of the Executive Secretary, Foreign-Trade Zones Board, Room 4008, U.S. Department of Commerce 14th & Pennsylvania Avenue, NW., Washington, DC 20230

Dated: June 28, 2001.
Dennis Puccinelli,
Executive Secretary.

[FR Doc. 01-16977 Filed 7-5-01; 8:45 am]

BILLING CODE 3510-DS-P